SMALL BUSINESS ADMINISTRATION

Disaster Declaration #12566 and #12567

Kentucky Disaster Number KY-00039

AGENCY: U.S. Small Business Administration.

ACTION: Amendment 8.

SUMMARY: This is an amendment of the Presidential declaration of a major disaster for Public Assistance Only for the Commonwealth of Kentucky (FEMA-1976-DR), dated 05/04/2011.

Incident: Severe Storms, Tornadoes, and Flooding.

Incident Period: 04/12/2011 through 05/20/2011.

Effective Date: 06/20/2011

Physical Loan Application Deadline Date: 07/05/2011.

Economic Injury (EIDL) Loan Application Deadline Date: 02/06/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Kentucky, dated 05/04/2011, is hereby amended to include the following areas as adversely affected by the disaster.

Primary Counties: Marion.

All other information in the original declaration remains unchanged.

(Catalog of Federal Domestic Assistance Numbers 59002 and 59008)

James E. Rivera,
Associate Administrator for Disaster Assistance.

[FR Doc. 2011-16239 Filed 6-28-11; 8:45 am]

BILLING CODE 8025-01-P